ENVIRONMENTAL PROTECTION AGENCY

[R08-OAR-2006-MT-0163; FRL-8177-5]

Adequacy Determination for the Missoula, MT Carbon Monoxide Maintenance State Implementation Plan for Transportation Conformity Purposes; State of Montana

AGENCY: Environmental Protection Agency (EPA).

ACTION: Notice of adequacy.

SUMMARY: In this document, EPA is notifying the public that we have found that the motor vehicle emissions budgets in the Missoula, Montana Carbon Monoxide Maintenance Plan, that was submitted by Montana Governor Brian Schweitzer with a letter signed May 27, 2005, are adequate for transportation conformity purposes. 40 CFR 93.118(e)(2) requires that EPA declare an implementation plan submission's motor vehicle emissions budgets adequate for conformity purposes prior to the budgets being used to satisfy the conformity requirements of 40 CFR part 93. As a result of our finding, the Missoula City-County, the Montana Department of Transportation and the U.S. Department of Transportation are required to use the motor vehicle emissions budgets from this submitted maintenance plan for future transportation conformity determinations.

DATES: This finding is effective June 16, 2006.

FOR FURTHER INFORMATION CONTACT: Jeffrey Kimes, Air & Radiation Program (8P-AR), United States Environmental Protection Agency, Region 8, 999 18th Street, Suite 300, Denver, Colorado 80202-2466, (303) 312-6445, kimes.jeffrey@epa.gov.

The letter documenting our finding is available at EPA's conformity Web site: http://www.epa.gov/otaq/transp/conform/adequacy.htm.

SUPPLEMENTARY INFORMATION: Throughout this document “we”, “us”, or “our” are used to mean EPA.

This action is simply an announcement of a finding that we have already made. We sent a letter to the State of Montana, Department of Environmental Quality on May 4, 2006, stating that the motor vehicle emission budgets in the submitted Missoula, Montana Carbon Monoxide Maintenance Plan are adequate. This finding has also been announced on our conformity Web site at http://www.epa.gov/otaq/transp/conform/adequacy.htm.

Transportation conformity is required by section 176(c) of the Clean Air Act. Our conformity rule requires that transportation plans, programs, and projects conform to SIPs and establishes the criteria and procedures for determining whether or not they demonstrate conformity. Conformity to a SIP means that transportation activities will not produce new air quality violations, worsen existing violations, or delay timely attainment of the national ambient air quality standards.

The criteria by which we determine whether a SIP's motor vehicle emission budgets are adequate for conformity purposes are outlined in 40 CFR 93.118(e)(4). Please note that an adequacy review is separate from our completeness review, and it also should not be used to prejudge our ultimate approval of the SIP. Even if we find a budget adequate, the SIP could later be disapproved, and vice versa.

The process for determining the adequacy of a transportation conformity budget is described at 40 CFR 93.118(f).

For the reader's ease, we have excerpted the motor vehicle emission budget from the Missoula, Montana Carbon Monoxide Maintenance Plan and they are as follows:

Year | Emission budget (ton per day)
2005 | 44.86
2010 | 43.22
2021 | 42.67

40 CFR 93.118(e)(1) requires that upon a finding of adequacy these budgets must be used in transportation conformity determinations unless the maintenance plan is later disapproved by EPA.

Authority: 42 U.S.C. 7401 et seq.

Dated: May 18, 2006.
Robert E. Roberts,
Regional Administrator, Region 8.

[FR Doc. E6-8464 Filed 5-31-06; 8:45 am]

BILLING CODE 6560-50-P